DEPARTMENT OF ENERGY

Federal Energy Regulatory Commission

[Docket Nos. CP02-63-002, CP05-75-000]

Tri-State Ethanol Co., LLC; Tri-State Financial Co., LLC d/b/a North Country Ethanol; Notice of Application

February 28, 2005.

Take notice that on February 24, 2005, Tri-State Financial Co., LLC, d/b/a North Country Ethanol, (North Country), 47333 104th Street, P.O. Box 78, Rosholt, South Dakota, 57260, and Tri-State Ethanol Co., LLC, (Tri-State Ethanol) filed with the Commission an application pursuant to section 7(b) and 7(c) of the Natural Gas Act to abandon, by sale, Tri-State Ethanol's facilities, located in Roberts County, South Dakota and Richland County, North Dakota, originally authorized under CP02-63-001, to North Country due to bankruptcy proceedings. North Country also requests temporary authorization, pursuant to § 157.17, to operate the subject facilities. Additionally, North Country seeks Commission approval of the permanent transfer of the certificate of public convenience and necessity issued by the Commission to Tri-State Ethanol in Docket No. CP02-63-001. Also, on February 25, 2005, North Country filed an amendment requesting the Commission to include in any authorizations the ability to transport gas solely on behalf of North Country. Finally, on February 25, 2005, North Country filed a supplement to its application detailing the economic and employment impacts the facilities have on the county in which the facilities are located, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

On February 28, 2002, Tri-State Ethanol was issued a certificate (98 FERC ¶ 61,220 (2002)) to own and the operate subject facilities, consisting of a 10.5-mile, 4.5-inch diameter pipeline, located in Richland County, North Dakota and terminating at Tri-State's ethanol facility near Rosholt, in Roberts County, South Dakota. North Country states that although Tri-State Ethanol received its certificate and approval to place the subject delivery line into service, a fire and explosion at the plant occurred on December 31, 2002, and service on the certificated facilities never commenced. Also, North Country asserts that financial difficulties stemming from the fire and explosion forced Tri-State Ethanol to file on May 23, 2003, with the United States Bankruptcy Court for the District of South Dakota (Northern Div.) in Case No. 03-10194, for reorganization under Chapter 11 of the Bankruptcy Code. On July 29, 2004, the proceeding was converted to a liquidation under Chapter 7 of the Bankruptcy Code pursuant to an order of the Bankruptcy Court. Subsequently, a court-supervised auction of Tri-State Ethanol's assets, including the Plant and certificated delivery line was conducted. On December 22, 2004, the Bankruptcy Court issued an order approving the sale of numerous Tri-State assets to North Country and the transfer of various permits and governmental authorizations related to the acquired assets. The subject application implements the arrangements approved by the Bankruptcy Court.

Any questions concerning the application should be directed to Kevin K. Crago, General Manager, Tri-State Financial Co., LLC, 47333 104th Street, P.O. Box 78, Rosholt, South Dakota, 57260, or call (605) 537-4585.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the Internet in lieu of paper. See 18 CFR 385.2001(a)(1)(iii) and the instructions on the Commission's Web site (http://www.ferc.gov) under the “e-Filing” link.

Comment Date: March 9, 2005.

Magalie R. Salas,
Secretary.

[FR Doc. E5-914 Filed 3-4-05; 8:45 am]

BILLING CODE 6717-01-P